SUSQUEHANNA RIVER BASIN COMMISSION

Actions Taken at September 19, 2013, Meeting

AGENCY: Susquehanna River Basin Commission.

ACTION: Notice.

SUMMARY: As part of its regular business meeting held on September 19, 2013, in Binghamton, New York, the Commission took the following actions: (1) Approved or tabled the applications of certain water resources projects; (2) rescinded approvals for three projects; (3) took additional actions, as set forth in the Supplementary Information below.

DATES: September 19, 2013.

ADDRESSES: Susquehanna River Basin Commission, 4423 N. Front Street, Harrisburg, PA 17110-1788.

FOR FURTHER INFORMATION CONTACT: Richard A. Cairo, General Counsel, telephone: (717) 238-0423, ext. 1306; fax: (717) 238-2436; email: rcairo@srbc.net. Regular mail inquiries may be sent to the above address. See also Commission Web site at www.srbc.net.

SUPPLEMENTARY INFORMATION: In addition to the actions taken on projects identified in the summary above and the listings below, the following items were also presented or acted upon at the business meeting: (1) Honored retiring Executive Director Paul O. Swartz for his almost 22 years of dedicated service to the Commission; (2) appointed Andrew D. Dehoff as the new Executive Director of the Commission; (3) heard a presentation from SRBC staff member Luanne Steffy on the Whitney Point Adaptive Management Plan; (4) delegated authority to the Executive Director on certain regulatory matters; and (5) approved/ratified four grants and one service contract.

Rescission of Project Approvals

The Commission rescinded approvals for the following projects:

1. Project Sponsor and Facility: Chevron Appalachia, LLC (Cambria Somerset Authority), Summerhill Township, Cambria County, PA (Docket No. 20110630).

2. Project Sponsor and Facility: Chevron Appalachia, LLC (Highland Sewer and Water Authority), Portage Township, Cambria County, PA (Docket No. 20110631).

3. Project Sponsor and Facility: Clark Trucking, LLC, Northeast Division, Muncy Creek Township, Lycoming County, PA (Docket No. 20111208).

Project Applications Approved

The Commission approved the following project applications:

1. Project Sponsor and Facility: Borough of Akron, Lancaster County, Pa. Renewal of groundwater withdrawal of up to 0.226 mgd (30-day average) from Well 5A (Docket No. 19811201); renewal of groundwater withdrawal of up to 0.166 mgd (30-day average) from Well 6 (Docket No. 19820101); and renewal of groundwater withdrawal of up to 0.148 mgd (30-day average) from Well 8 (Docket No. 19820101).

2. Project Sponsor and Facility: Bending River Estates (Tioga River), Town of Lindley, Steuben County, N.Y. Surface water withdrawal of up to 0.300 mgd (peak day).

3. Project Sponsor and Facility: Cabot Oil & Gas Corporation (Meshoppen Creek), Lemon Township, Wyoming County, Pa. Increase surface water withdrawal by an additional 0.446 mgd (peak day), for a total of 0.500 mgd (peak day) (Docket No. 20121202).

4. Project Sponsor and Facility: Cabot Oil & Gas Corporation (Meshoppen Creek), Springville Township, Susquehanna County, Pa. Surface water withdrawal of up to 0.500 mgd (peak day).

5. Project Sponsor and Facility: Chesapeake Appalachia, LLC (Chemung River), Athens Township, Bradford County, Pa. Renewal of surface water withdrawal of up to 0.999 mgd (peak day) (Docket No. 20090603).

6. Project Sponsor and Facility: Chesapeake Appalachia, LLC (Sugar Creek), Burlington Township, Bradford County, Pa. Renewal of surface water withdrawal of up to 0.499 mgd (peak day) (Docket No. 20090604).

7. Project Sponsor and Facility: Chesapeake Appalachia, LLC (Susquehanna River), Terry Township, Bradford County, Pa. Renewal of surface water withdrawal of up to 1.440 mgd (peak day) (Docket No. 20090605).

8. Project Sponsor and Facility: Town of Erwin, City of Corning, Steuben County, N.Y. Groundwater withdrawal of up to 0.504 mgd (30-day average) from Well 5R.

9. Project Sponsor and Facility: Global Tungsten & Powders Corp., Towanda Borough, Bradford County, Pa. Groundwater withdrawal of up to 4.800 mgd (30-day average) from a Well Field (Wells 1, 2, 6, 7, 8, 9, 10, 11, and 12).

10. Project Sponsor and Facility: Southwestern Energy Production Company (Wyalusing Creek), Wyalusing Township, Bradford County, Pa. Renewal of surface water withdrawal with modification to increase by an additional 0.500 mgd (peak day), for a total of 2.000 mgd (peak day) (Docket No. 20090914).

11. Project Sponsor and Facility: State College Borough Water Authority, Ferguson Township, Centre County, Pa. Renewal of groundwater withdrawal of up to 0.605 mgd (30-day average) from Well 41 (Docket No. 19820501); renewal of groundwater withdrawal of up to 1.480 mgd (30-day average) from Well 43 (Docket No. 19820501); and renewal of groundwater withdrawal of up to 1.520 mgd (30-day average) from Well 53 (Docket No. 19820501).

12. Project Sponsor and Facility: Susquehanna Gas Field Services, L.L.C. (Meshoppen Creek), Meshoppen Borough, Wyoming County, Pa. Renewal of surface water withdrawal of up to 0.145 mgd (peak day) (Docket No. 20090628).

13. Project Sponsor: SWEPI LP (Tioga River), Richmond Township, Tioga County, Pa. Renewal of surface water withdrawal with modification to increase by an additional 0.843 mgd (peak day), for a total of 0.950 mgd (peak day) (Docket No. 20090612).

Project Application Approved Involving a Diversion

The Commission approved the following project application:

1. Project Sponsor: Winner Water Services, Inc. Project Facility: Sykesville Mine AMD, Borough of Sykesville, Jefferson County, Pa. Into-basin diversion of up to 1.000 mgd from the Ohio River Basin.

Project Applications Tabled

The Commission tabled the following project applications:

1. Project Sponsor and Facility: Aqua Infrastructure, LLC (Tioga River), Hamilton Township, Tioga County, Pa. Application for surface water withdrawal of up to 2.500 mgd (peak day).

2. Project Sponsor and Facility: Chesapeake Appalachia, LLC (Susquehanna River), Athens Township, Bradford County, Pa. Application for renewal of surface water withdrawal of up to 1.440 mgd (peak day) (Docket No. 20080906).

3. Project Sponsor and Facility: DS Waters of America, Inc., Clay Township, Lancaster County, Pa. Application for renewal of groundwater withdrawal of up to 0.115 mgd (30-day average) from Well 6 (Docket No. 20000203).

4. Project Sponsor and Facility: Houtzdale Municipal Authority, Gulich Township, Clearfield County, Pa. Application for groundwater withdrawal of up to 0.537 mgd (30-day average) from Well 14R.

5. Project Sponsor and Facility: LHP Management, LLC (Fishing Creek—Clinton Country Club), Bald Eagle Township, Clinton County, Pa. Application for renewal of surface water withdrawal of up to 0.999 mgd (peak day) (Docket No. 20090906).

6. Project Sponsor and Facility: Millersburg Area Authority, Upper Paxton Township, Dauphin County, Pa. Application for renewal of groundwater withdrawal of up to 0.173 mgd (30-day average) from Well 10 (Docket No. 19830309).

7. Project Sponsor and Facility: Millersburg Area Authority, Upper Paxton Township, Dauphin County, Pa. Application for renewal of groundwater withdrawal of up to 0.187 mgd (30-day average) from Well 11 (Docket No. 19830309).

8. Project Sponsor and Facility: Winner Water Services, Inc. (Manor #44 Deep Mine), Girard Township, Clearfield County, Pa. Application for surface water withdrawal of up to 0.144 mgd (peak day).

Authority: Pub. L. 91-575, 84 Stat. 1509 et seq., 18 CFR Parts 806, 807, and 808.

Dated: November 27, 2013.
Stephanie L. Richardson,
Secretary to the Commission.

[FR Doc. 2013-29049 Filed 12-4-13; 8:45 am]

BILLING CODE 7040-01-P